DEPARTMENT OF DEFENSE

Department of Navy

Privacy Act of 1974; System of Records

AGENCY: Department of the Navy, DoD.

ACTION: Notice to delete a System of Records.

SUMMARY: The Department of the Navy is deleting a system of records in its existing inventory of record systems subject to the Privacy Act of 1974, (5 U.S.C. 552a), as amended.

DATES: This proposed actions will be effective without further notice on May 15, 2008, unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above. The Department of Navy proposes to delete a system of records notices from its inventory of record systems subject to the Privacy Act of 1974 (5 U.S.C. 552a), as amended. The proposed deletion is not within the purview of subsection (r) of the Privacy Act of 1974 (5 U.S.C. 552a), as amended, which requires the submission of new or altered systems reports.

April 9, 2008.
L.M. Bynum,
Alternate OSD Federal Register Liaison Officer, Department of Defense.

N11101-4

Station Housing Records (February 22, 1993, 58 FR 10817).

Reason:

Program discontinued and all files deleted.

[FR Doc. E8-7982 Filed 4-14-08; 8:45 am]

BILLING CODE 5001-06-P